DEPARTMENT OF HOMELAND SECURITY

Coast Guard

[Docket No. USCG-2011-0731]

Notification of the Removal of Conditions of Entry on Vessels Arriving From the Republic of Congo

AGENCY: Coast Guard, DHS.

ACTION: Notice.

SUMMARY: The Coast Guard announces that it is removing the conditions of entry on vessels arriving from the country of the Republic of Congo.

DATES: The policy announced in this notice is effective on October 14, 2011.

ADDRESSES: This notice is part of docket USCG-2011-0731 and is available online by going to http://www.regulations.gov, inserting USCG-2011-0731 in the “Keyword” box, and then clicking “Search.” This material is also available for inspection and copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this notice, call Mr. Michael Brown, International Port Security Evaluation Division, United States Coast Guard, telephone 202-372-1081. If you have questions on viewing or submitting material to the docket, call Renee V. Wright, Program Manager, Docket Operations, telephone 202-366-9826 or (toll free) 1-800-647-5527.

SUPPLEMENTARY INFORMATION:

Background and Purpose

Title 46, Section 70110, United States Code, enacted as part of section 102(a) of the Maritime Transportation Security Act of 2002 (Pub. L. 107-295, Nov. 25, 2002) authorizes the Secretary of Homeland Security to impose conditions of entry on vessels requesting entry into the United States arriving from ports that are not maintaining effective anti-terrorism measures. It also requires public notice of the ineffective anti-terrorism measures. The Secretary has delegated to the Coast Guard authority to carry out the provisions of this section. Previous notices have imposed or removed conditions of entry on vessels arriving from certain countries, and those conditions of entry and the countries they pertain to remain in effect except as modified below. All such notices are available for review online by going to http://www.homeport.uscg.mil, clicking on the “Maritime Security” and then “International Port Security Program” tabs, and then following the link.

On September 1, 2009 the Coast Guard published a Notice of Policy in the Federal Register, (74 FR 45230), announcing that it had determined that ports in the Republic of Congo were not maintaining effective anti-terrorism measures, and imposed conditions of entry.

Based on recent information, the Coast Guard has determined that the Republic of Congo is now maintaining effective anti-terrorism measures, and is accordingly removing the conditions of entry announced in the previously published Notice of Policy. With this notice, the current list of countries not maintaining effective anti-terrorism measures is as follows: Cambodia, Cameroon, Comoros, Cote d'Ivoire, Cuba, Equatorial Guinea, Guinea-Bissau, Indonesia, Iran, Liberia, Madagascar, Sao Tome and Principe, Syria, Timor-Leste, and Venezuela.

This notice is issued under authority of 46 U.S.C. 70110(d).

Dated: October 6, 2011.
Vice Admiral Brian M. Salerno, USCG,
Deputy Commandant for Operations.

[FR Doc. 2011-26602 Filed 10-13-11; 8:45 a

BILLING CODE 9110-04-P